NATIONAL SCIENCE FOUNDATION

Special Emphasis Panel in Physics; Notice of Meeting

In accordance with the Federal Advisory Committee Act (Pub. L. 92-463, as amended), the National Science Foundation announces the following meetings of the Special Emphasis Panel in Physics (1208):

Date/Time: January 29-February 1, 2001; 8:00 a.m.-5:00 p.m.

Location: California Institute of Technology, Pasadena, CA.

Date/Time: February 26-March 1, 2001; 8:00 a.m.-5:00 p.m.

Location: Hanford LIGO Observatory, Hanford, WA.

Contact Person: Dr. Victor Cook, National Science Foundation, 4201 Wilson Boulevard, Room 1015, Arlington, VA 22230. Telephone: (703) 292-8890.

Type of Meetings: Closed.

Place: National Science Foundation, 4201 Wilson Boulevard, Arlington, VA.

Purpose of Meeting: To provide advice and recommendations concerning the LIGO observatory.

Agenda: To review and evaluate LIGO as part of the selection process for continued funding.

Reason for Closings: The proposals being reviewed include information of a proprietary or confidential nature, including technical information, financial data, such as salaries; and personal information concerning individuals associated with the proposals. These matters are exempt under 5 U.S.C. 552b(c), (4) and (6) of the Government in the Sunshine Act.

Dated: January 16, 2001.
Karen J. York,
Committee Management Officer.

[FR Doc. 01-1940 Filed 1-22-01; 8:45 am]

BILLING CODE 7555-01-M